DEPARTMENT OF HEALTH AND HUMAN SERVICES

National Institutes of Health

Center For Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel; In Vitro Assessments of Antimicrobial Activity (IVAAA) N01—Task Area D: New Techniques to Culture Difficult-to-Grow Pathogens.

Date: September 2, 2025.

Time: 10:00 a.m. to 5:00 p.m.

Agenda: To review and evaluate contract proposals.

Address: National Institutes of Health, Rockledge II, 6701 Rockledge Drive, Bethesda, MD 20892.

Meeting Format: Virtual Meeting.

Contact Person: Dylan P. Flather, Ph.D., Scientific Review Officer, National Institutes of Health, Hamilton, MT 59840, (406) 802-6209, dylan.flather@nih.gov.

Name of Committee: Center for Scientific Review Special Emphasis Panel; In Vitro Assessments of Antimicrobial Activity (IVAAA) N01—Task Area C: Parasites and Vectors.

Date: September 4, 2025.

Time: 10:00 a.m. to 3:00 p.m.

Agenda: To review and evaluate contract proposals.

Address: National Institutes of Health, Rockledge II, 6701 Rockledge Drive, Bethesda, MD 20892.

Meeting Format: Virtual Meeting.

Contact Person: Dylan P. Flather, Ph.D., Scientific Review Officer, National Institutes of Health, Hamilton, MT 59840, (406) 802-6209, dylan.flather@nih.gov.

Name of Committee: Center for Scientific Review Special Emphasis Panel; Institutional Research Training in Neurosciences (T32).

Date: September 25-26, 2025.

Time: 11:00 a.m. to 5:00 p.m.

Agenda: To review and evaluate grant applications.

Address: National Institutes of Health, Rockledge II, 6701 Rockledge Drive, Bethesda, MD 20892.

Meeting Format: Virtual Meeting.

Contact Person: Meysam Yazdankhah, Ph.D., Scientific Review Officer, National Institutes of Health, National Institute on Drug Abuse, Scientific Review Branch, 11601 Landsdown Street, 3WF, Rockville, MD 20852, (301) 402-6965, meysam.yazdankhah@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: July 25, 2025.
Bruce A. George,
Program Analyst, Office of Federal Advisory Committee Policy.

[FR Doc. 2025-14332 Filed 7-28-25; 8:45 am]

BILLING CODE 4140-01-P